DEPARTMENT OF ENERGY

Notice of 229 Boundary Revision for the Oak Ridge Gaseous Diffusion Plant

AGENCY: Department of Energy (DOE).

ACTION: Notice of 229 Boundary Revision for the Oak Ridge Gaseous Diffusion Plant.

SUMMARY: Notice is hereby given that the U.S. Department of Energy, pursuant to Section 229 of the Atomic Energy Act of 1954, as amended, as implemented by 10 CFR part 860 published in the Federal Register on August 26, 1963 (28 FR 8400), prohibits the unauthorized entry, as provided in 10 CFR 860.3 and the unauthorized introduction of weapons or dangerous materials, as provided in 10 CFR 860.4, into or upon the following described facilities of the Oak Ridge Gaseous Diffusion Plant of the United States Department of Energy. The following amendments are made:

Deletions From Inclusion Within the Existing 299 Boundary

Raw Water Pumping Station—K-901

The K-901 raw water pumping station, including two outside water intake pumps enclosed by a 7-foot chain link fence topped with three strands of barbed wire, and a one-story building of transite construction approximately 22 feet by 25 feet in size, located in the Second Civil District, Roane County, Tenn., within the corporate limits of the city of Oak Ridge, on the east bank of the Clinch River at approximately river mile 11.5.

Raw Water Pumping Station—K-1513

The K-1513 raw water pumping station including a one-story brick building approximately 26 x 18 feet in size and outside electric transformers, located in the Second Civil District, Roane County, Tenn., within the corporate limits of the city of Oak Ridge on the E. bank of the Clinch river at approximately river mile 14.5.

Water Purification Plant—K-1515

The K-1515 Water Purification Plant including a steel water tank approximately 39 feet in diameter and 23 feet high, located in the Second Civil District, Roane County, Tenn., within the corporate limits of the city of Oak Ridge, on the N. side of Bear Creek Road approximately 0.2 mile E. of the W. end of Bear Creek Road.

Pine Ridge Antenna Facility—K-805

The Pine Ridge Antenna Facility consisting of two wooden radio antenna poles approximately 87 feet in height and a one-story concrete block building approximately 11 feet by 10 feet in size, located on Pine Ridge in the Second Civil District of Roane County, Tenn., within the corporate limits of the city of Oak Ridge, on an access road approximately 0.7 miles E. of the intersection of the access road and road running between Bear Creek Road and the Oak Ridge Turnpike, said intersection being 0.6 mile N. of Bear Creek Road.

Water Storage Tanks K-1529 and K-1530

Two concrete water storage tanks located on Pine Ridge in the Second Civil District of Roane County, Tenn., within the corporate limits of the city of Oak Ridge, on an access road approximately 0.4 mile N. of the intersection of the access road and Bear Creek Road, said intersection being approximately 0.6 mile E. of the clinch River.

Area Changes From the Existing 229 Boundary

Building K-33 Area

The installation known as Building K-33 at the Oak Ridge Gaseous Diffusion Plant located in the Second Civil District, Roane County, Tenn., within the corporate limits of the city of Oak Ridge County, Tennessee, within the Corporate limits of the City of Oak Ridge, on the N. side of the Oak Ridge Turnpike approximately 1 mile E. of Gallaher Bridge spanning the Clinch River.

The revised 229 Boundary around the K-33 Building is the outline perimeter of the main exterior walls of the structure. The 229 Boundary for this facility starts at the northwest building corner and encompasses 1456′ of the northern side, 970′ of the eastern side, 1456′ of the southern side, and 970′ of the western side. This area encompasses approximately 33 acres.

Main Oak Ridge Gaseous Diffusion Plant Areas

The Oak Ridge Gaseous Diffusion Plant Area is located in the Second Civil District of Roane County, Tennessee, within the corporate limits of the City of Oak Ridge on the N. side of the Oak Ridge Turnpike approximately 1 mile E. of Gallaher Bridge spanning the Clinch River. Said installation covers approximately 376 acres. The area is bounded at the northwest by Popular Creek, on the northeast and east by government land enclosed by a 7-foot chain link fence topped with three strands of barbed wire, on the south side by 5th St. East/Avenue D/10th St./Avenue J/7th St./5th St./Avenue L/7th St./Avenue M/5th St., and on the west side by Avenue S and Popular Creek.

Justification for Deletions

Raw Water Pumping Station K-901

Delete as it is a non-operational facility.

Raw Water Pumping Station—K-1513; Water Purification Plant—K-1515; Water Storage Tanks—K-1529 and K-1530

Delete as these facilities will be transferred to the City of Oak Ridge.

Pine Ridge Antenna Facility—K-805

Facility is currently leased to the Community Reuse Organization of East Tennessee (CROET).

FOR FURTHER INFORMATION CONTACT: Ms. Cindy B. Hunter, Certified Realty Specialist, DOE Oak Ridge Office, Post Office Box 2001, Oak Ridge, Tennessee 37831, Telephone: (865) 576-4431, Facsimile: (865) 576-9204.

SUPPLEMENTARY INFORMATION: This security boundary is designated pursuant to Section 229 of the Atomic Energy Act of 1954. This revised Boundary supersedes and/or re-describes the entire previously contained in the Federal Register notice published October 19, 1965 at 30 FR 13285; amended on March 30, 1967 at 32 FR 5384; and April 21, 1983 at 48 FR 17134.

Issued in Oak Ridge, Tennessee, on January 9, 2008.
Cindy B. Hunter,
DOE ORO Realty Officer.

[FR Doc. 08-237 Filed 1-22-08; 8:45 am]

BILLING CODE 6450-01-M